DEPARTMENT OF LABOR

Office of the Secretary

Expanding Economic Opportunity and Income Security Through Workforce Education, Skills Training, Employment Creation, and Local Economic Development

AGENCY: Bureau of International Labor Affairs, Department of Labor.

ACTION: Notice of Availability of Funds and Solicitation for Cooperative Agreement Applications (SGA 02-19).

This notice contains all of the necessary information and forms needed to apply for cooperative agreement funding.

SUMMARY: The U.S. Department of Labor (USDOL), Bureau of International Labor Affairs (ILAB), will award up to US $4 million through one or more cooperative agreement to an organization or organizations to develop and implement a project to expand economic opportunity and improve income security for targeted populations of current workers and workforce entrants in the Philippines and Pakistan. USDOL is seeking applicants from qualified organizations for the implementation of workforce education, skills training, employment creation, and local economic development that will lead directly to new or improved employment and income opportunities for current or future workers. Applicants will submit one application with separate proposals for each country and include outreach to one or more targeted populations including women, disenfranchised young adults, religious and ethnic minorities, people with disabilities, and rural or economically disadvantaged communities.

DATES: The closing date for receipt of applications is Wednesday, September 4, 2002. Applications must be received by 4:45 p.m. (Eastern Daylight Savings Time) at the address below. No exceptions to the mailing, delivery, and hand-delivery conditions set forth in this notice will be granted.

ADDRESSES: Application forms will not be mailed. They are published in this Federal Register Notice, and in the Federal Register which may be obtained from your nearest U.S. Government office, public library, or on-line at http://www.archives.gov/federal_register/index.html. Applications must be delivered to: U.S. Department of Labor, Procurement Services Center, 200 Constitution Avenue, NW, Room N-5416, Attention: Lisa Harvey, Reference: SGA 02-19, Washington, DC 20210. Applications sent by e-mail, telegram, or facsimile (FAX) will not be accepted. Applications sent by other delivery services, such as Federal Express, UPS, etc., will be accepted, however, the applicant bears the responsibility for timely submission.

FOR FURTHER INFORMATION CONTACT: Lisa Harvey: E-mail address: harvey-lisa@dol.gov. All applicants are advised that U.S. mail delivery in the Washington, DC area has been slow and erratic due to the recent concerns involving anthrax contamination. All applicants must take this into consideration when preparing to meet the application deadline. It is recommended that you confirm receipt of your application by contacting Lisa Harvey, U.S. Department of Labor, Procurement Services Center, telephone (202) 693-4570 (this is not a toll-free number) prior to the closing deadline. All inquiries should reference SGA 02-19. See Section III.B for further information.

SUPPLEMENTARY INFORMATION: ILAB's Office of Foreign Relations (OFR) carries out a worldwide international technical assistance program in support of three objectives: (1) Expanding Economic Opportunity and Income Security for Workers; (2) Protecting the Basic Rights of Workers; and (3) Reducing the Prevalence of HIV/AIDS through Workplace Education. As a means to develop and implement projects to expand economic opportunity and income security for workers, ILAB announces the availability of funds to be granted by cooperative agreement to one or more qualifying organizations to achieve the USDOL program objectives to implement a program of workforce education (possibly including literacy), skills training, employment creation (possibly including self-employment opportunities), and local economic development in Pakistan and the Philippines. These objectives are part of a broader USDOL program to address social safety net needs. The process of globalization and economic liberalization have often led to high expectations of the population to foster social progress after achieving a more stable and solid economy and democratic government. National, regional, and local social safety nets are viewed as an important element in efforts to garner support for economic reform and trade liberalization as they provide a modicum of security in a highly dynamic labor market. The cooperative agreement(s) will focus on providing skills training to one or more targeted populations including women, disenfranchised young adults, religious and ethnic minorities, people with disabilities, and rural or economically disadvantaged communities that are directly linked to real jobs and increased earned income. Program elements may also include the provision of training in self-employment and business development, community-based local economic development, and job-related tools and equipment to individual participants or service providers as needed to ensure the success of the program.

The cooperative agreement(s) will be actively managed by ILAB to assure achievement of the stated objectives. Applicants are encouraged to be creative in proposing innovative and cost-effective interventions that will have a demonstrable impact on unemployment rates and earnings for project participants and their communities.

I. Background and Program Scope

A. Problem Identification: Islamic Republic of Pakistan

The country is divided into four provinces (Balochistan, North-West Frontier, Punjab, and Sindh), one territory (Federally Administered Tribal Areas), and one capitol territory (Islamabad Capitol Territory). Although the military is the primary political force, the religious clergy, landowners, industrialists, and small business owners have significant influence over domestic and international politics.

Pakistan has a total population estimated at 140 million and a national literacy rate of 33% (55.3% for males and 29% for females). There is no national law mandating compulsory education nor are sufficient public resources dedicated to education. As a result many children reach legal working age without basic education, literacy, or workforce preparedness skills.

Nearly 56% of the population is of working age but the actual labor force is only 40 million (44% in agriculture, 39% in services, and 17% in industry). There is also extensive export of labor, primarily to the Middle East. The official unemployment rate is 6% although it is generally agreed that real unemployment is much higher, especially for youth, women, and ethnic minorities.

Although 97% of the population is Muslim, there is ethnic tension between the Sunnis, who comprise 77% of the total Muslim population, and the Shi'as, who are 20% of the total Muslim population. There is reportedly frequent discrimination in both public and private sector employment and education for all religious minorities but primarily Christians. Despite a legal requirement that employers either hire qualified persons with disabilities for at least 2% of their positions or pay a fee to a government fund for persons with disabilities, this is rarely enforced.

Women, particularly in the rural areas where female literacy rates are 2% or less, are also subject to discrimination in education and employment opportunities. The National Institute of Psychology conducted a survey in the rural areas and reported that 42% of parents cited “no financial benefit” as the reason they did not send their daughters for formal education. Other surveys have found that girls are also not sent to school so that they can assist with household duties. Discrimination in college acceptance rates of qualified applicants between boys (83%) and girls (28%) further discourages investment in girls' education.

Forty percent (40%) of the population lives below the poverty line and foreign investment is limited. Per capita GDP is estimated at about US$441 and is tied closely to agricultural yields that are adversely affected due to current and persistent drought conditions. Pakistan's largest exports are textiles (garments, cotton cloth, and yarn), rice, and other agricultural products. The U.S. is the largest recipient of exported goods, receiving nearly one quarter of Pakistan's exports.

B. Problem Identification: Republic of the Philippines

The Philippines has a total population of nearly 83 million of which 48.1 million are in the labor force, primarily in agriculture, government, and services, and to a lesser extent in assembly manufacturing. Primary education is compulsory and the national literacy rate is 94.6%, 95% for males and 94.3% for females. Secondary school dropout rates are high, however, with a total graduation rate of 50%; among the poor the rate is even lower due to the cost of school uniforms, supplies, and transportation.

Forty one percent (41%) of the population lives below the poverty line with higher rates among Muslims and those living in rural areas. The economy has had a difficult time recovering from the Asian financial crisis of the late 1990s and the country's political instability since the overthrow of the Marcos regime. Exports, reaching US$38 billion in 2000, are concentrated in electronic equipment, machinery, garments, and coconut products.

Employment opportunities for youth, women, people with disabilities, rural residents, indigenous people, and Muslims (primarily those residing in the Autonomous Region of Muslim Mindinao) are especially limited. With regard to the latter, religious leaders from both the Muslim and the Christian communities contend that the economic disparities are the basis for the violence and armed aggression, not religious intolerance. Workplace sexual harassment, particularly in the special economic zones, is thought to be significant although underreported due to fear of job loss in retaliation. In addition, women are traditionally hired under short term and part time work contracts. Although there are legal protections against these forms of discrimination, they are not enforced.

C. Program Scope

Given the magnitude of the need for skills training and the size of the potential beneficiary population, applicants are encouraged to focus their responses in ways that target a specific community or target population, support U.S. foreign policy objectives within the country, and leverage other donor-funded or host government activities. Furthermore, applicants should emphasize the interconnectedness of the proposed training with real employment opportunities and benefits to a broader community.

Applicants may wish to consider the following programs as illustrative examples of the types of projects that might be considered for USDOL funding. In the Philippines, with the support of an international NGO, young adults are trained in the repair and maintenance of hospital equipment. Subsequent to the receipt of the training, graduates are provided with a personal set of the hardware needed to perform the job and are linked to hospitals willing to hire them. This program also has the developmental benefit of improving healthcare services for disadvantaged populations. In Pakistan, the government has developed a partnership with the Chambers of Commerce to increase the involvement of the private sector in the identification of skills needed for employment and the successful transfer of those skills by the public sector education system.

II. Authority

ILAB is authorized to award and administer this program by the Departments of Labor, Health and Human Services, and Education, and Related Agencies Appropriations Act, 2002, Pub. L. No.107-116, 115 Stat. 2177 (2002).

III. Application Process

A. Eligible Applicants

Any commercial, international, or not-for-profit organization capable of successfully implementing workforce education and skill training (including literacy), employment creation, and local economic development, and working with foreign national government ministries, regional and local government entities, employers, non-governmental and community-based organizations, and labor groups to improve workforce preparedness skills (possibly including literacy education), employment creation (possibly including self-employment opportunities), and local economic development is eligible for this cooperative agreement(s). Government ministries likely to be involved include those for labor, education, social affairs, commerce, finance, and those for special targeted populations such as youth, women, or minorities. Partnerships of more than one organization are also eligible although in such a case a lead organization must be identified. The capability of an applicant, partners, and co-applicants to perform necessary aspects of this solicitation will be determined under Section V.B Rating Criteria.

Please note that eligible cooperative agreement applicants must not be classified under the Internal Revenue Code as a section 501(c)(4) entity. See 26 U.S.C. 501(c)(4). According to the Lobbying Disclosure Act of 1995, as amended, 2 U.S.C. 1611, an organization, as described in section 501(c)(4) of the Internal Revenue Code of 1986, that engages in lobbying activities will not be eligible for the receipt of federal funds constituting an award, grant, or loan.

B. Submission of Applications

One (1) ink-signed original, complete application plus two (2) copies of the proposal must be submitted to the U.S. Department of Labor, Procurement Services Center, 200 Constitution Avenue, NW, Room N-5416, Washington, DC 20210, not later than 4:45 p.m. EDST, September 4, 2002.

The application must consist of two (2) separate parts. Part I of the application must contain the Standard Form (SF) 424, “Application for Federal Assistance” (Appendix A) (The entry on SF 424 for the Catalog of Federal Domestic Assistance Number (CFDA) is 17.700) and sections A-F of the Budget Information Form SF 424A (Appendix B). Part II must contain a technical proposal that demonstrates capabilities in accordance with the Statement of Work (Section IV.A) and the selection criteria (Section V.B).

To be considered responsive to this solicitation, the application must consist of the above-mentioned separate sections not to exceed 60 single-sided (8½″ x 11″), double-spaced, 10 to 12 pitch typed pages for which a response is submitted. Any applications that do not conform to these standards may be deemed non-responsive to this solicitation and may not be evaluated.

Standard forms and attachments are not included in the page limit. The application must include a table of contents and an abstract summarizing the application in not more than two (2) pages. These pages are also not included in the page limits.

Upon completion of negotiations, the individual signing the SF 424 on behalf of the applicant must be authorized to bind the applicant.

C. Acceptable Methods of Submission

The grant application package must be received at the designated place by the date and time specified or it will not be considered. Any application received at the Office of Procurement Services after 4:45 pm EDST on September 4, 2002 will not be considered unless it is received before the award is made and:

1. It was sent by registered or certified mail not later than the fifth calendar day before August 6, 2002;

2. It is determined by the Government that the late receipt was due solely to mishandling by the Government after receipt at the U.S. Department of Labor at the address indicated; or

3. It was sent by U.S. Postal Service Express Mail Next Day Service-Post Office to Addressee, not later than 5 pm at the place of mailing two (2) working days, excluding weekends and Federal holidays, prior to August 6, 2002.

The only acceptable evidence to establish the date of mailing of a late application sent by registered or certified mail is the U.S. Postal Service postmark on the envelope or wrapper and on the original receipt from the U.S. Postal Service. If the postmark is not legible, an application received after the above closing time and date shall be processed as if mailed late. “Postmark” means a printed, stamped or otherwise placed impression (not a postage meter machine impression) that is readily identifiable without further action as having been applied and affixed by an employee of the U.S. Postal Service on the date of mailing. Therefore applicants should request that the postal clerk place a legible hand cancellation “bull's eye” postmark on both the receipt and the envelope or wrapper.

The only acceptable evidence to establish the date of mailing of a late application sent by U.S. Postal Service Express Mail Next Day Service-Post Office to Addressee is the date entered by the Post Office receiving clerk on the “Express Mail Next Day Service-Post Office to Addressee” label and the postmark on the envelope or wrapper and on the original receipt from the U.S. Postal Service. “Postmark” has the same meaning as defined above. Therefore, applicants should request that the postal clerk place a legible hand cancellation “bull's-eye” postmark on both the receipt and the envelope or wrapper.

The only acceptable evidence to establish the time of receipt at the U.S. Department of Labor is the date/time stamp of the Procurement Services Center on the application wrapper or other documentary evidence or receipt maintained by that office.

Applications sent by e-mail, telegram, or facsimile (FAX) will not be accepted. Applications sent by other delivery services, such as Federal Express, UPS, etc., will be accepted, however, the applicant bears the responsibility for timely submission. Because of delay in the receipt of mail in the Washington, DC area, it is recommended that you confirm receipt of your application by contacting Lisa Harvey, U.S. Department of Labor, Procurement Services Center, telephone (202) 693-4570 (this is not a toll-free number), prior to the closing deadline. All inquires should reference SGA 02-19.

D. Funding Levels

Approximately US $4 million is budgeted for this project to fund activities in Pakistan and the Philippines. Although USDOL reserves the right to award more than one cooperative agreement, a partnership of more than one organization may apply to implement the project. Applicants will submit one application with separate proposals for each country, for the implementation of projects in both countries and are encouraged to utilize locally-based entities and personnel to implement much of the project in order to institutionalize and sustain project improvements and reduce costs. The award of any sub-contract will be subject to USDOL approval (Section IV.D).

E. Program Duration

The duration of the project funded by this SGA is three (3) years. The start date of project activities will be negotiated upon the awarding of the cooperative agreement(s).

IV. Requirements

A. Statement of Work

In developing their proposals, applicants should develop a strategy for the implementation of the project that will achieve the stated objectives to expand economic opportunity and income security through workforce education, skills training, employment creation, and local economic development for one or more targeted populations including women, disenfranchised young adults, religious and ethnic minorities, people with disabilities, and rural or economically disadvantaged communities.

The strategy should take into account the implementing environment in Pakistan and the Philippines and incorporate innovative methodologies for identifying participants, selecting project partners, engaging local employers and education and training service providers, and, if possible, leveraging other investments or activities. The strategy should also demonstrate how the applicant proposes to involve employer, labor, non-governmental and community-based organizations and local, regional, and national government officials in the implementation of the project. The applicant should draft a strategy demonstrating how it will meet the project objectives by the end of the grant period and how the issue of sustainability will be integral to project implementation. The applicant should present a strategy that also includes indicators of successful implementation with specific and realistic numerical goals such as employment placement rates, literacy improvements, self-employment starts, and the monetary value of local economic development activities.

The applicant should include a rationale for the selection of the participants (i.e., industries, regions, gender, ethnicity, age groups, or U.S. government policy interests), outline the training materials, individual assessment tools, business development approaches, other materials that will be used as well as a strategy for ensuring that the project activities will lead directly to employment and improved earned income for participants. In addition, the applicant should develop sustainable innovative strategies for involving government, employers' and workers' organizations, community-based entities, and non-governmental organizations, as appropriate, in the development, implementation, evaluation, and management of project activities.

B. Deliverables

Following the award of the cooperative agreement(s), unless otherwise indicated, the applicant must submit copies of all required reports to USDOL by the specified due dates. Other documents, such as project designs, are to be submitted by mutually agreed-upon deadlines.

1. Project Designs. The organization(s) awarded the cooperative agreement (grantee) will, draft the design, and submit a project document in the format established by USDOL, to include a background and justification section, project strategy (objectives, outputs, activities, indicators), project implementation timetable, project management organizational chart, project budget, logical framework and performance monitoring plan to systematically monitor project results. The document will also include sections, which cover coordination strategies, project management, and sustainability of project improvements involving government, employers' and workers' organizations as well as other non-governmental organizations as appropriate. Each project design will be drawn, in part, from the proposal written in response to this solicitation. Based upon the responses to this solicitation and subsequent to the award, it may be determined by USDOL that in order to finalize a project design, the grantee(s) will need to travel to both countries with a USDOL official for a project design mission trip.

2. Technical Progress Reports. The grantee(s) must furnish a typed technical report to USDOL on a quarterly basis, no later than 15 days from the last date of each quarter, i.e., 31 March, 30 June, 30 September and 31 December of each year. The 30 June (2nd quarter) and 31 December (4th quarter) reports are abbreviated and need only indicate whether the work plan was fully implemented and if not, explain why not and attach the amended work plan. The grantee(s) must also furnish a separate financial report (SF 272) to USDOL on the same quarterly basis. The format for the technical progress report will be the standard format developed by USDOL and must contain the following information:

a. For each project objective, an accurate account of activities carried out under that objective during the reporting period as it relates to the work plan;

b. Major trends in the project that note particular success with a particular activity or trends that indicate a need to readjust or expand the work plan (after a sufficient period of implementation, to be determined by USDOL in consultation with the grantee(s), this ought to include the development of individual vignettes of how specific individuals' lives and their communities were improved as a result of their participation in this project);

c. An account of problems, proposed solutions, actions taken or required regarding implementation of the project;

d. New proposals for activities, staffing, funding, etc.;

e. Lessons learned in project implementation;

f. Future actions planned in support of each project objective;

g. An accounting of staff and any sub-contractor hours expended; and

h. Aggregate amount of costs incurred during the reporting period, tracking expenditures vs. budget.

4. Annual Work Plan. An annual work plan for the project as implemented in each country will be submitted within 45 days after the approval of the project design by USDOL. Subsequent annual work plans will be delivered as amended to reflect modifications in implementation, no later than one year following submission of previous work plan, or to reflect amendments based on recommendations made during mid-term evaluations, no later than 30 days following the mid-term evaluation.

5. Monitoring and Evaluation. A performance monitoring plan will be developed in collaboration with USDOL, including beginning and ending dates for projects and planned and actual dates for mid-term and final project evaluations, and included as part of the submission of the project document for USDOL approval. The monitoring plan will be prepared after analysis of existing baseline data, including revision of indicators provided in project documents. The plan will include performance indicators and instruments to collect and report on performance data on a semi-annual basis.

6. Evaluation Reports. The Grant Officer's Technical Representative (GOTR) will determine on a case-by-case basis whether mid-term evaluations will be conducted by an internal or external evaluation team. All final evaluations will be external in nature. The grantee(s) must respond to any comments and recommendations resulting from the review of the mid-term report and will submit a work plan for implementing the recommendations of the mid-term report within 15 days following formal submission of the report to the grantee(s) by USDOL.

C. Production of Deliverables

1. Materials Prepared and Purchased Under the Cooperative Agreement. The grantee(s) must submit to USDOL all media-related and educational materials developed by it or its sub-contractors under this cooperative agreement(s), including relevant press releases, for use in this project before they are reproduced, published, or used. The grantee(s) must consult with USDOL to ensure that materials are compatible with USDOL materials relating to its overall technical assistance program, i.e., public relations material such as video and web site. USDOL considers brochures, pamphlets, videotapes, slide-tape shows, curricula, and any other training materials used in the project, educational materials. USDOL will review materials for technical accuracy. USDOL will also review training curricula and purchased training materials for accuracy before they are used. The grantee(s) must obtain prior approval from the Grant Officer for all materials developed or purchased under this cooperative agreement. All materials produced by grantee(s) must be provided to USDOL in a digital format for possible publication on the Internet by USDOL.

2. Acknowledgment of USDOL Funding. In all circumstances, the following must be displayed on printed materials:

Preparation of this item was funded by the United States Department of Labor under Cooperative Agreement No. [insert the appropriate cooperative agreement number].

When issuing statements, press releases, requests for proposals, bid solicitations, and other documents describing projects or programs funded in whole or in part with Federal money, all grantees receiving Federal funds, including State and local governments and recipients of research grants, must clearly state:

a. The percentage of the total costs of the program or project, which will be financed with Federal money;

b. The dollar amount of Federal funds for the project or program; and

c. The percentage and dollar amount of the total costs of the project or program that will be financed by non-governmental sources.

In consultation with USDOL, identification of USDOL's role will be determined to be one of the following:

a. The USDOL logo may be applied to USDOL-funded material prepared for world-wide distribution, including posters, videos, pamphlets, research documents, national survey results, impact evaluations, best practice reports, and other publications of global interest. The grantee(s) will consult with USDOL on whether the logo should be used on any such items prior to final draft or final preparation for distribution. In no event shall the USDOL logo be placed on any item until USDOL has given the grantee written permission to use the logo, after obtaining appropriate internal USDOL approval for use of the logo on the item.

b. If the USDOL determines the logo is not appropriate and does not give written permission, the following notice must appear on the document:

This document does not necessarily reflect the views or policies of the U.S. Department of Labor, nor does mention of trade names, commercial products, or organizations imply endorsement by the U.S. Government.

D. Administrative Requirements

1. General. Grantee organizations, which may include faith-based organizations, will be subject to applicable Federal laws (including provisions of appropriations law) and the applicable Office of Management and Budget (OMB) Circulars. Determinations of allowable costs will be made in accordance with the applicable Federal cost principles, i.e., Non-Profit Organizations—OMB Circular A-122. The cooperative agreement(s) awarded under this SGA will be subject to the following administrative standards and provisions, if applicable:

29 CFR part 36—Federal Standards for Nondiscrimination on the Basis of Sex in Education Programs or Activities Receiving Federal Financial Assistance.

29 CFR part 93—New Restrictions on Lobbying.

29 CFR part 95—Uniform Administrative Requirements for Grants and Agreements with Institutions of Higher Education, Hospitals and Other Non-Profit Organizations, and with Commercial Organizations, Foreign Governments, Organizations Under the Jurisdiction of Foreign Governments and International Organizations.

29 CFR part 96—Federal Standards for Audit of Federally Funded Grants, Contracts and Agreements.

29 CFR part 98—Federal Standards for Government wide Debarment and Suspension (Nonprocurement) and Government-wide Requirements for Drug-Free Workplace (Grants).

29 CRF part 99—Federal Standards for Audits of States, Local Governments, and Non-Profit Organizations.

2. Sub-contracts. Sub-contracts must be awarded in accordance with 29 CFR 95.40-48. In compliance with Executive Orders 12876 as amended, 13230, 12928, and 13021 as amended, the grantee(s) is strongly encouraged to provide subcontracting opportunities to Historically Black Colleges and Universities, Hispanic-Serving Institutions and Tribal Colleges and Universities.

3. Key Personnel. The applicant must list the individual(s) who has been designated as having primary responsibility for the conduct and completion of all work in the project it proposes. The grantee(s) agrees to inform the GOTR whenever it appears impossible for one or more of these individual(s) to continue work on the project as planned. The grantee(s) may nominate substitute personnel for approval of the GOTR, however, the grantee(s) must obtain prior approval from the Grant Officer for all key personnel. If the Grant Officer determines not to approve the personnel change, he/she reserves the right to terminate the cooperative agreement.

4. Encumbrance of Cooperative Agreement Funds. Cooperative agreement funds may not be encumbered/obligated by the grantee(s) before or after the cooperative agreement period of performance. Encumbrances/obligations outstanding as of the end of the cooperative agreement period may be liquidated (paid out) after the end of the cooperative agreement period. Such encumbrances/obligations may involve only commitments for which a need existed during the cooperative agreement period and which are supported by approved contracts, purchase orders, requisitions, invoices, bills, or other evidence of liability consistent with the grantee(s)'s purchasing procedures and incurred within the cooperative agreement period. All encumbrances/obligations incurred during the cooperative agreement period must be liquidated within 90 days after the end of the cooperative agreement period, if practicable.

5. Site Visits. USDOL, through its authorized representatives, has the right, at all reasonable times, to make site visits to review project accomplishments and management control systems and to provide such technical assistance as may be required. If USDOL makes any site visit on the premises of the grantee(s) or a sub-contractor(s) under this cooperative agreement(s), the grantee(s) must provide and must require its sub-contractors to provide all reasonable facilities and assistance for the safety and convenience of the Government representatives in the performance of their duties. All site visits and evaluations must be performed in such a manner as will not unduly delay the work.

V. Review and Selection of Applications for Cooperative Agreement Award

A. The Review Process

USDOL will screen all applications to determine whether all required elements are present and clearly identifiable. A technical panel will objectively rate each complete application against the criteria described in this announcement. The panel recommendations to the Grant Officer are advisory in nature. The Grant Officer may elect to select one or more grantees on the basis of the initial proposal submission; or, the Grant Officer may establish a competitive or technically acceptable range for the purpose of selecting qualified applicants. If deemed appropriate, following the Grant Officer's call for the preparation and receipt of final revisions of proposals, the evaluation process described above will be repeated to consider such revisions. The Grant Officer will make a final selection determination based on what is most advantageous to the Government, considering factors such as panel findings, geographic presence of the applicants, the best value to the government, cost and other factors. The Grant Officer's determination for award under this SGA is final.

Notice: Selection of an organization as a cooperative agreement recipient does not constitute approval of the cooperative agreement application as submitted. Before the actual cooperative agreement is awarded, the Grant Officer may enter into negotiations concerning such items as program components, funding levels, and administrative systems. If the negotiations do not result in an acceptable submission, the Grant Officer reserves the right to terminate the negotiation and decline to fund the application.

B. Rating Criteria and Selection

The technical panel will review grant applicants against the criteria listed below on the basis of 100 points with up to additional five points available for non-federal or leveraged resources. The criteria are presented in the order of emphasis that they will receive.

1. Approach, Understanding of the Programmatic Area and Specific Country Context, and Management Plan (40 points)

a. Overview. This section of the proposal must provide the following:

(1) A summary of the applicant's general strategy for each country in addressing the needs as identified in Section I of this SGA;

(2) The applicant's rationale for selection of the target population(s), which demonstrates an understanding of the in-country situation with regards to specific populations and communities and the delivery of workforce and economic development services;

(3) The applicant's identification of specific, challenging, but realistic numerical goals for project success;

(4) Indicators for assessing attainment of the goals; and

(5) The other expected outcomes over the period of performance for each task.

The applicant must describe in detail the proposed approach to comply with each requirement in Section IV.A of this solicitation, including all tasks and methods to be utilized to implement the project. Also, the applicant must explain the rationale for using this approach. In addition, this section of the proposal must demonstrate the applicant's thorough knowledge and understanding of the education and employment needs of the target populations in each of the specific country contexts, best-practice approaches for meeting these needs, working with the tripartite partners, and work that has been done and is being done in the field as applied to each country.

b. Logical Framework. The strategy should include an outline of the objectives, activities, outputs, assumptions, and indicators envisioned for implementation of the project.

c. Implementation Plan. The applicant must submit an implementation plan for the entire project, preferably with a visual aid such as a Gantt chart. The implementation plan should outline the approach that will be used to implement the project including a list of activities and an explanation of how each relates to the overall development objective of expanding employment opportunities and increasing income security for the project participants and their communities. The plan should list the activities envisioned for the life of the project as well as scheduling of activities by objective, starting with the execution of the cooperative agreement and ending with the final report. In describing the implementation plan, the applicant must address the following points:

(1) Describe the use of existing or potential infrastructure and the use of qualified personnel, including qualified foreign nationals, to implement the project in each country. One chart for the entire project is acceptable if the approach will be uniform in both countries. Describe existing education, training, and personal assessment materials, if any, that will be used and explain how other materials and training curriculum will be developed.

(2) Explain the strategy for delivering the education and training services including where, when, and how the services will be delivered and whether any supportive services, such as child care, food allocation, and transportation, will be provided. Outline how the local partners will be involved in the implementation.

(3) Demonstrate how the project will strengthen national, local, public, and private institutions and policies on meeting the education, training, employment, and economic development needs of the target population(s) and their communities.

(4) Demonstrate how the organization would systematically monitor and report on project performance to measure the achievement of the project objective(s).

(5) Demonstrate how the organization would build the national, regional, and local capacity to ensure that project activities are sustained after completion of the project.

d. Management and Staff Loading Plan. The management plan for each country must also include a management and staff loading plan. The management plan should include the following:

(1) A project organizational chart, demonstrating management structure, key personnel positions, and indicating proposed links with the relevant national, regional, and local government entities, employer, worker, non-governmental, and community-based organizations, and other significant local actors.

(2) A description of the functional relationship between elements of the project's organization; and

(3) The identity of the individual responsible for project management and the lines of authority between this individual and other elements of the project.

The staff loading plan must identify all key tasks and the person-days required to complete each task. Labor estimates for each task must be broken down by individuals assigned to the task, including sub-contractors and consultants. All key tasks must be charted to show time required to perform them by months or weeks.

2. Experience and Qualifications of the Organization (25 points)

The evaluation criteria in this category are as follows:

a. The applicant, either individually or together with its partners or co-applicants, in applying for the award must demonstrate experience with workforce education, skills training, literacy, employment creation, self-employment assessment and promotion, and local economic development; working directly with government ministries, employers' and worker's organizations, non-governmental and community-based organizations, and local government officials; analyzing relevant national and provincial laws relating to discrimination in education, training, and employment; and implementing a project in both countries.

Organizations applying in partnership or as co-applicants must identify the lead organization, demonstrate an approach to ensure successful collaboration including clear delineation of respective roles and responsibilities, and submit a signed letter of agreement between the parties verifying the commitment of the parties to work together to implement the program. The partnership agreement must include a designation for the lead organization. (Please note that points will be neither awarded nor deducted for partnership formation as long as a collaborative capability can be shown.)

b. The organization(s) must also demonstrate that it has an effective system of operations in each designated country. These contacts must enable the organization(s) to demonstrate that they can perform successfully in both countries.

c. The proposal must include information regarding previous grants, contracts, or cooperative agreements, including all of the following:

(1) The organization for which the work was done;

(2) A contact person in that organization with his/her current phone number;

(3) The dollar value of the grant, contract, or cooperative agreement for the project(s);

(4) The time frame and professional effort, either directly by key personnel, by consultants, or under contractual arrangements involved in the project(s);

(5) A brief summary of the work performed; and

(6) A brief summary of accomplishments.

This information on previous grants and contracts shall be provided in appendices and will not count in the 40-page maximum page requirement.

3. Experience and Qualifications of Key Personnel (25 points)

This section of the application must include sufficient information for judging the quality and the competence of key staff proposed to be assigned to the project(s) proposed to assure that they meet the required qualifications. Successful performance of the proposed work depends heavily on the qualifications of the individuals committed to the project. Accordingly, in its evaluation of each application, USDOL will place emphasis on the applicant's commitment of key personnel qualified for the work involved in accomplishing the assigned tasks. Information provided on the experience and educational background of personnel must indicate the following:

(a) The identity of key personnel assigned to the project. “Key personnel” are staff who are essential to the successful operation of the project and completion of the proposed work and, therefore, may not be replaced or have their hours reduced without the approval of the Grant Officer.

(b) The educational background and experience of all staff to be assigned to the project.

(c) The special capabilities of staff that demonstrate prior experience in organizing, managing and performing similar efforts.

(d) The current employment status of staff and their availability for this project. The applicant must also indicate whether the proposed work will be performed by persons currently employed or is dependent upon planned recruitment or sub-contracting.

Note that management and professional technical staff members comprising the applicant's proposed team should be individuals who have prior experience with organizations working in similar efforts, and are fully qualified to perform work specified in the Statement of Work. Where sub-contractors or outside assistance is proposed, organizational control should be clearly delineated to ensure responsiveness to the needs of USDOL. Key personnel must sign letters of agreement to serve on the project and indicate availability to commence work within three weeks of grant award.

The following information must be furnished:

(a) The applicant must designate a Project Director to oversee the project and other key personnel to perform the requirements necessary for success in both countries. The Project Director must have a minimum of three years of professional experience in a leadership role in the implementation of workforce education and training programs and local economic development in a developing country, including project design, management, monitoring, and evaluation, participant selection, stakeholder identification and inclusion, and the development and effective use of outreach, education, training, and assessment materials.

(b) The applicant should specify other personnel proposed to carry out the requirements of this solicitation.

(c) A resume should be provided for each of the key personnel to be assigned to the project. At a minimum, each resume must include: the individual's current employment status and previous work experience, including position title, duties performed, dates in position, employing organizations, and educational background. Duties must be clearly defined in terms of role performed, i.e., manager, team leader, consultant, etc. (Resumes must be included as attachments, which do not count against the page limitation.)

(d) The special capabilities of staff that demonstrate prior experience in organization, managing, and performing similar efforts.

(e) The current employment status of key personnel proposed for work under the cooperative agreement, i.e., whether personnel are currently employed by the organization or whether their employment depends upon planned recruitment or sub-contracting.

4. Budget Plan (10 points)

The applicant must develop two proposed budgets, one each for implementation of the project in each country. This section of the application must explain the costs for performing all of the requirements presented in this solicitation and for producing all required reports and other deliverables presented in this solicitation; costs must include labor, training, material production and dissemination, equipment, travel, and other related costs. The budget plans will be evaluated solely for the purpose of determining the efficient and effective allocation of funding for proposed program implementation. Preference may be given to applicants with low administrative costs. Administrative costs shall be reflected separately on the budget plan from programmatic costs.

(e) The current employment status of key personnel proposed for work under the cooperative agreement, i.e., whether personnel are currently employed by the organization or whether their employment depends upon planned recruitment or sub-contracting.

5. Leveraging of Funding (5 points)

USDOL will give up to five (5) additional rating points to applications that include non-Federal resources that significantly expand the dollar amount, non-monetary resources, size and scope of the proposal, or capitalize upon previous U.S. government or private investments. The applicant may include any leveraging or co-funding anticipated. To be eligible for additional points under this criterion, the applicant must list the source(s) of funds, the nature, and activities anticipated with these funds under this cooperative agreement, and any partnerships, linkages or coordination of activities, and/or cooperative funding.

This stated commitment will be incorporated into the text of the cooperative agreement with the selected applicant(s).

Signed at Washington, DC, this 31 day of July, 2002.
Daniel P. Murphy,
Director, Procurement Services Center.

BILLING CODE 4510-28-P

[FR Doc. 02-19856 Filed 8-5-02; 8:45 am]

BILLING CODE 4510-28-C